DEPARTMENT OF HOMELAND SECURITY

Coast Guard

33 CFR Part 165

[Docket No. USCG-2019-0426]

Safety Zones; Annual Events in the Captain of the Port Buffalo Zone

AGENCY: Coast Guard, DHS.

ACTION: Notice of enforcement of regulation.

SUMMARY: The Coast Guard will enforce certain safety zones located in the federal regulations for Annual Events in the Captain of the Port Buffalo. This action is necessary and intended to protect the safety of life and property on navigable waters prior to, during, and immediately after these events. During each enforcement period, no person or vessel may enter the respective safety zone without the permission of the Captain of the Port Buffalo.

DATES: The regulations in 33 CFR 165.939 as listed in Table 165.939 will be enforced for the events and times as stated in the SUPPLEMENTARY INFORMATION section below.

FOR FURTHER INFORMATION CONTACT: If you have questions about this notice of enforcement, call or email LT Sean Dolan, Chief of Waterways Management, U.S. Coast Guard Sector Buffalo telephone 716-843-9322, email D09-SMB-SECBuffalo-WWM@uscg.mil.

SUPPLEMENTARY INFORMATION: The Coast Guard will enforce the Safety Zones; Annual Events in the Captain of the Port Buffalo Zone listed in 33 CFR 165.939 for the following events:

1. Boldt Castle 4th of July Fireworks, Heart Island, NY; The safety zone listed in Table 165.939 as (b)(13) will be enforced from 9 p.m. through 10:30 p.m. on July 4, 2019.

2. Clayton Chamber of Commerce Fireworks, Calumet Island, NY; The safety zone listed in Table 165.939 as (b)(14) will be enforced from 9:30 p.m. through 10:30 p.m. on July 3, 2019.

3. French Festival Fireworks, Cape Vincent, NY; The safety zone listed in Table 165.939 as (b)(15) will be enforced from 9:15 p.m. to 10:45 p.m. on July 13, 2019.

4. Lyme Community Days, Chaumont, NY; The safety zone listed in Table 165.939 as (b)(16) will be enforced from 9:15 p.m. through 10:15 p.m. on July 27, 2019.

5. Brewerton Fireworks, Brewerton, NY; The safety zone listed in Table 165.939 as (b)(19) will be enforced from 9:30 p.m. through 10:15 p.m. on July 3, 2019 with a rain date of July 6, 2019.

6. Village Fireworks, Sodus Point, NY; The safety zone listed in Table 165.939 as (b)(22) will be enforced within a 560-foot radius of position 43°1′633″ N, 076°58′27″ W, from 9:30 p.m. until 10:30 p.m. on July 3, 2019 with a rain date of July 5, 2019.

7. A Salute to our Heroes, Hamlin Beach State Park, NY; The safety zone listed in Table 165.939 as (b)(23) will be enforced from 10 p.m. until 11 p.m. on June 29, 2019.

8. Olcott Fireworks, Olcott, NY; The safety zone listed in Table 165.939 as (b)(24) will be enforced from 9:45 p.m. through 10:45 p.m. on July 3, 2019 with a rain date of July 6, 2019.

9. North Tonawanda Fireworks, North Tonawanda, NY; The safety zone listed in Table 165.939 as (b)(25) will be enforced within a 700-foot radius of position 43°01′47.3″ N, 078°53′14.7″ W from 9:15 p.m. through 10:15 p.m. on July 4, 2019 with a rain date of July 5, 2019.

10. Tonawanda's Canal Fest Fireworks, Tonawanda, NY; The safety zone listed in Table 165.939 as (b)(26) will be enforced from 9:15 p.m. until 10:15 p.m. on July 21, 2019.

11. Tom Graves Memorial Fireworks, Port Bay, NY; The safety zone listed in Table 165.939 as (b)(27) will be enforced within a 420-foot radius of position 43°17′54.2″ N, 076°49′50.9″ W from 9:45 p.m. through 10:45 p.m. on July 3, 2019.

12. Oswego Independence Day Celebration Fireworks, Oswego, NY; The safety zone listed in Table 165.939 as (b)(29) will be enforced from 9 p.m. through 9:45 p.m. on July 7, 2019 with a rain date of July 14, 2019.

Pursuant to 33 CFR 165.23, entry into, transiting, or anchoring within the safety zones during an enforcement period is prohibited unless authorized by the Captain of the Port Buffalo or a designated representative. Those seeking permission to enter the safety zones may request permission from the Captain of Port Buffalo via channel 16, VHF-FM. Vessels and persons granted permission to enter the safety zones shall obey the directions of the Captain of the Port Buffalo or a designated representative. While within a safety zone, all vessels shall operate at the minimum speed necessary to maintain a safe course.

This notice of enforcement is issued under authority of 33 CFR 165.939 and 5 U.S.C. 552 (a). In addition to this notice of enforcement in the Federal Register, the Coast Guard will provide the maritime community with advance notification of this enforcement period via Broadcast Notice to Mariners or Local Notice to Mariners. If the Captain of the Port Buffalo determines that the safety zone need not be enforced for the full duration stated in this notice he or she may use a Broadcast Notice to Mariners to grant general permission to enter the respective safety zone.

Dated: June 5, 2019.
Joseph S. Dufresne,
Captain, U.S. Coast Guard, Captain of the Port Buffalo.

[FR Doc. 2019-12230 Filed 6-10-19; 8:45 am]

BILLING CODE 9110-04-P